DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 24, 2009.

Interested persons are invited to submit written comments regarding the subject matter of the investigations to the Director, Division of Trade Adjustment Assistance, at the address shown below, not later than April 24, 2009.

The petitions filed in this case are available for inspection at the Office of the Director, Division of Trade Adjustment Assistance, Employment and Training Administration, U.S. Department of Labor, Room N-5428, 200 Constitution Avenue, NW., Washington, DC 20210.

Signed at Washington, DC, this 6th day of April 2009.
Linda G. Poole,
Certifying Officer, Division of Trade Adjustment Assistance.

Appendix
[TAA petitions instituted between 3/23/09 and 3/27/09]
TA-W | Subject firm (petitioners) | Location | Date of institution | Date of petition
65649 | Victoria and Company (Comp) | East Providence, RI | 03/23/09 | 03/20/09
65650 | Aero-Metric, Inc. (State) | Sheboygan, WI | 03/23/09 | 03/20/09
65651 | Unifi Manufacturing, Inc. (Comp) | Madison, NC | 03/23/09 | 03/18/09
65652 | Aida America Corporation (Comp) | Dayton, OH | 03/23/09 | 03/20/09
65653 | Munson Machinery (Wkrs) | Utica, NY | 03/23/09 | 03/11/09
65654 | Lear Corporation (State) | Southfield, MI | 03/23/09 | 02/24/09
65655 | Weyerhaeuser Company (Comp) | Chavies, KY | 03/23/09 | 03/19/09
65656 | Commercial Vehicle Group (Comp) | Vancouver, WA | 03/23/09 | 03/20/09
65657 | Prescotech Industries, Inc. (Wkrs) | Fort Smith, AR | 03/23/09 | 03/20/09
65658 | Semitool Southwest Regional Office (Wkrs) | Phoenix, AZ | 03/23/09 | 03/16/09
65659 | Eagle Sewing Company (Wkrs) | San Francisco, CA | 03/23/09 | 03/13/09
65660 | Muth Mirror Systems (Comp) | Sheboygan, WI | 03/23/09 | 03/20/09
65661 | Zurn Industries (Union) | Erie, PA | 03/23/09 | 03/20/09
65662 | Leeds (Wkrs) | Warren, OH | 03/23/09 | 03/20/09
65663 | Philips Oral Health Care (Comp) | Snoqualmie, WA | 03/23/09 | 03/02/09
65664 | Doran Company | Mansfield, MA | 03/23/09 | 03/20/09
65665 | Conmed Corporation (Comp) | Utica, NY | 03/24/09 | 03/23/09
65666 | Neocork Technologies (Wkrs) | Conover, NC | 03/24/09 | 03/23/09
65667 | Tekni-Plex, Inc. (Comp) | Troy, OH | 03/24/09 | 03/23/09
65668 | Blount, Inc. (Comp) | Milwaukie, OR | 03/24/09 | 03/23/09
65669 | Anixter, Inc. (Comp) | Danville, IL | 03/24/09 | 03/20/09
65670 | Dalure Fashions, Inc. (Wkrs) | Gatesville, NC | 03/25/09 | 03/16/09
65671 | Flextronics International (Wkrs) | Elk Grove Village, IL | 03/25/09 | 03/23/09
65672 | Chrysler, LLC (UAW) | Sterling Heights, MI | 03/25/09 | 03/06/09
65673 | APAC Customer Services (Wkrs) | Cedar Rapids, IA | 03/25/09 | 03/17/09
65674 | Halliburton Energy Services (Wkrs) | Duncan, OK | 03/25/09 | 03/24/09
65675 | Carrick Turning Works, Inc. (Comp) | High Point, NC | 03/25/09 | 03/24/09
65676 | DRS Laurel Technologies (Wkrs) | Johnstown, PA | 03/25/09 | 03/23/09
65677 | Jeld-Wen (Wkrs) | Klamath Falls, OR | 03/25/09 | 03/24/09
65678 | Bihler of America, Inc. (Wkrs) | Phillipsburg, NJ | 03/25/09 | 03/12/09
65679 | Metal Powder Products/Ridgeway Division (Comp) | Ridgway, PA | 03/26/09 | 03/24/09
65680 | SMTC Enclosure Systems Div. (Comp) | Franklin, MA | 03/26/09 | 03/19/09
65681 | Callaway Golf Ball Operations, Inc. (Comp) | Chicopee, MA | 03/26/09 | 03/25/09
65682 | Penn-Union Corporation (union) | Edinboro, PA | 03/26/09 | 03/20/09
65683 | Freeport—McMoran Americas (Wkrs) | Morenci, AZ | 03/26/09 | 03/23/09
65684 | Convergys (Wkrs) | Cincinnati, OH | 03/26/09 | 03/23/09
65685 | Burke Industrial Supply, Inc. (Comp) | Morganton, NC | 03/26/09 | 03/25/09
65686 | Pandora Manufacturing (UAW) | Pandora, OH | 03/26/09 | 03/19/09
65687 | Star Cutter Company/Tawas Tool (Comp) | East Tawas, MI | 03/27/09 | 03/26/09
65688 | Star Cutter Company/HB Carbide (Comp) | Lewiston, MI | 03/27/09 | 03/26/09
65689 | Star Cutter Company/Ossineke Industries (Comp) | Ossineke, MI | 03/27/09 | 03/26/09
65690 | Tube Fabrication Industries, Inc. (Comp) | Logansport, IN | 03/27/09 | 03/25/09
65691 | Group Dekko, Inc. (Comp) | Murray, IA | 03/27/09 | 03/10/09
65692 | Tricon Timber Post and Pole (Comp) | Superior, MT | 03/27/09 | 03/26/09
65693 | Bergstrom Saturn of Eau Claire (Wkrs) | Eau Claire, WI | 03/27/09 | 03/26/09
65694 | Indiana Tube Corporation (Comp) | Evansville, IN | 03/27/09 | 03/25/09
65695 | Hitachi Cable Indiana, Inc. (Comp) | Russell Springs, KY | 03/27/09 | 03/26/09

[FR Doc. E9-8406 Filed 4-13-09; 8:45 am]

BILLING CODE 4510-FN-P